SURFACE TRANSPORTATION BOARD

49 CFR Parts 1002, 1007, 1011, 1012, 1018, 1019, 1021, 1102, 1103, 1104, 1105, 1109, 1110, 1113, 1114, 1115, 1116, 1130, 1132, 1150, 1151, 1152, 1155, 1177, 1180, and 1253

[Docket No. EP 786]

Nomenclature Corrections Due to Office Reorganization, Removal of Obsolete References, and Payment Processing Changes

AGENCY: Surface Transportation Board.

ACTION: Final rule.

SUMMARY: The Surface Transportation Board (Board) recently completed a reorganization in which it combined its two legal offices, the Office of the General Counsel and the Office of Proceedings, to form the Office of Chief Counsel. The Board is issuing a final rule to make nomenclature changes reflecting the establishment of the Office of Chief Counsel as a result of this reorganization, to remove obsolete references, and to revise its rules to no longer accept paper checks or money orders as a form of payment.

DATES: This final rule is effective on February 3, 2026.

FOR FURTHER INFORMATION CONTACT: Amy Ziehm at (202) 918-5462. If you require an accommodation under the Americans with Disabilities Act, please call (202) 245-0245.

SUPPLEMENTARY INFORMATION: The Board has made a change to its agency organization. Effective August 1, 2025, the Board's two legal offices, the Office of Proceedings and the Office of the General Counsel, were combined into the Office of Chief Counsel. The Board is therefore revising its regulations at 49 CFR Chapter X to update office names and personnel titles to reflect the new consolidated structure. These nomenclature changes will not result in any substantive changes to the Board's regulations.

Additionally, the Board is removing and replacing three outdated references to the Office of Compliance and Enforcement, which is now known as the Office of Public Assistance, Governmental Affairs, and Compliance. See Removal of Delegations of Auth. to Sec'y, EP 685, slip op. at 3 (STB served Oct. 15, 2009) (noting that “[t]here is no longer an Office of Compliance and Enforcement” and replacing references to that office with references to the Office of Public Assistance, Governmental Affairs, and Compliance).

Furthermore, in accordance with Executive Order14247, “Modernizing Payments To and From America's Bank Account,” 90 FR 14001 (Mar. 25, 2025), the Board is also revising its rules to no longer accept paper checks or money orders as a form of payment. Executive Order14247 directs that, as soon as practicable, payments made to the federal government must be processed electronically. Accordingly, effective February 3, 2026, the Board will require electronic payment of fees.

The Board currently utilizes, and will continue to utilize, Pay.gov, an electronic payment system operated by the U.S. Department of the Treasury. Pay.gov allows payment through bank accounts, credit cards, debit cards with a MasterCard or Visa logo, and digital wallets. Payors may access Pay.gov via the Board's website. Consistent with Executive Order 14247, all payments to the Board will be processed electronically unless the payor does not have access to banking services or electronic payment systems, or the payor qualifies for an exception under applicable law. Payors that qualify for an exception from the use of electronic payment systems should contact the Board's Rail Customer and Public Assistance (RCPA) staff for assistance by calling (866) 254-1792 (toll-free) or (202) 245-0238, or by emailing rcpa@stb.gov.

The revised regulations are set forth below and are issued without prior public notice or opportunity for public comment. The Administrative Procedure Act (APA) does not require that process for “rules of agency organization, procedure, or practice,” 5 U.S.C. 553(b)(A), or “when the agency for good cause finds . . . that notice and public procedure thereon are impracticable, unnecessary, or contrary to the public interest,” 5 U.S.C. 553(b)(B). In this proceeding, the Board is revising its regulations to reflect internal reorganization within the Board, to remove obsolete references, and to clarify certain procedures related to payments. Additionally, there is good cause here to find that public notice and comment are unnecessary because the rule does not make any substantive changes. There is also good cause to make this rule effective on less than 30 days' notice in order to update the Board's regulations to reflect the current organizational structure of the Board, remove obsolete references, and comply with the requirements of Executive Order 14247 promptly. See 5 U.S.C. 553(d).

The Regulatory Flexibility Act (RFA), as amended by the Small Business Regulatory Enforcement Fairness Act of 1996, 5 U.S.C. 601-612, generally requires an agency to prepare a regulatory flexibility analysis of any rule subject to notice and comment rulemaking requirements, unless the agency certifies that the rule will not have a significant economic impact on a substantial number of small entities. Because the Board has determined that notice and comment are not required under the APA for this rulemaking, the requirements of the RFA do not apply.

Executive Order 12866, as modified by Executive Order 14215, provides that the Office of Information and Regulatory Affairs will review all significant rules. In section 3(d), Executive Order 12866 defines “regulation” or “rule” to exclude regulations or rules that are limited to agency organization, management, or personnel matters. This rule relates to internal agency organization and management; therefore, it is exempt from the provisions of Executive Order 12866.

The Board has determined that this action is not a rule as defined by the Congressional Review Act, 5 U.S.C. 804(3).

This rulemaking does not contain a new or amended information collection requirement subject to the Paperwork Reduction Act of 1995, 44 U.S.C. 3501-3521.

It is ordered:

1. Parts 1002, 1007, 1011, 1012, 1018, 1019, 1021, 1102, 1103, 1104, 1105, 1109, 1110, 1113, 1114, 1115, 1116, 1130, 1132, 1150, 1151, 1152, 1155, 1177, 1180, and 1253 are modified as set forth below, and notice will be published in the Federal Register.

2. The modifications to Parts 1002, 1007, 1011, 1012, 1018, 1019, 1021, 1102, 1103, 1104, 1105, 1109, 1110, 1113, 1114, 1115, 1116, 1130, 1132, 1150, 1151, 1152, 1155, 1177, 1180, and 1253 are effective on February 3, 2026. The remainder of this decision is effective on its date of service.

List of Subjects

49 CFR Part 1002

Administrative practice and procedure, Common carriers, Freedom of information.

49 CFR Part 1007

Privacy.

49 CFR Part 1011

Administrative practice and procedure, Authority delegations (Government agencies), Organization and functions (Government agencies).

49 CFR Part 1012

Sunshine Act.

49 CFR Part 1018

Claims, Income taxes.

49 CFR Part 1019

Conflict of interest.

49 CFR Part 1021

Claims.

49 CFR Part 1102

Administrative practice and procedure.

49 CFR Part 1103

Administrative practice and procedure, Lawyers.

49 CFR Part 1104

Administrative practice and procedure.

49 CFR Part 1105

Environmental impact statements, Reporting and recordkeeping requirements.

49 CFR Part 1109

Administrative practice and procedure, Maritime carriers, Motor carriers, Railroads.

49 CFR Part 1110

Administrative practice and procedure.

49 CFR Part 1113

Administrative practice and procedure.

49 CFR Part 1114

Administrative practice and procedure.

49 CFR Part 1115

Administrative practice and procedure.

49 CFR Part 1116

Administrative practice and procedure.

49 CFR Part 1130

Administrative practice and procedure.

49 CFR Part 1132

Administrative practice and procedure.

49 CFR Part 1150

Administrative practice and procedure, Railroads.

49 CFR Part 1151

Administrative practice and procedure, Railroads.

49 CFR Part 1152

Administrative practice and procedure, Railroads, Reporting and recordkeeping requirements, Uniform System of Accounts.

49 CFR Part 1155

Administrative practice and procedure, Railroads, Waste treatment and disposal.

49 CFR Part 1177

Administrative practice and procedure, Archives and records, Maritime carriers, Railroads.

49 CFR Part 1180

Administrative practice and procedure, Railroads, Reporting and recordkeeping requirements.

49 CFR Part 1253

Freight forwarders, Maritime carriers, Motor carriers, Pipelines, Railroads, Reporting and recordkeeping requirements.

Decided: January 29, 2026.
By the Board, Board Members Fuchs, Hedlund, and Schultz.
Jeffrey Herzig,
Clearance Clerk.

For the reasons set forth in the preamble, and under the authority of 49 U.S.C. 1321(a), the Surface Transportation Board amends parts 1002, 1007, 1011, 1012, 1018, 1019, 1021, 1102, 1103, 1104, 1105, 1109, 1110, 1113, 1114, 1115, 1116, 1130, 1132, 1150, 1151, 1152, 1155, 1177, 1180, and 1253 of title 49, chapter X, of the Code of Federal Regulations as follows:

PART 1002—FEES

1. The authority citation for part 1002 continues to read as follows:

Authority: 5 U.S.C. 552(a)(4)(A), (a)(6)(B), and 553; 31 U.S.C. 9701; and 49 U.S.C. 1321. Section 1002.1(f)(11) is also issued under 5 U.S.C. 5514 and 31 U.S.C. 3717.

2. Amend § 1002.1 by revising paragraph (g) to read as follows:

§ 1002.1 Fees for records search, review, copying, certification, and related services.

* * * * *

(g) Fees for services described in paragraphs (a) through (f) of this section must be paid via the Board's electronic payment system in accordance with § 1002.2(a)(2).

* * * * *

3. Amend § 1002.2 by:

a. Revising paragraph (a)(2);

b. In paragraphs (e)(1)(i) and (ii) and (e)(2)(i) and (iii), removing the text “Chief, Section of Administration, Office of Proceedings” and adding, in its place, the text “Chief of Case Administration, Office of Chief Counsel”; and

c. Removing paragraph (g).

The revision reads as follows:

§ 1002.2 Filing fees.

(a) * * *

(2) Filing fees for all filings must be paid via the Board's electronic payment system found on the Board's website.

* * * * *

PART 1007—RECORDS CONTAINING INFORMATION ABOUT INDIVIDUALS

4. The authority citation for part 1007 continues to read as follows:

Authority: 5 U.S.C. 552, 49 U.S.C. 1321.

5. Amend § 1007.5 by revising the third sentence of paragraph (f) to read as follows:

§ 1007.5 Disclosure of requested information to individuals; fees for copies of records.

* * * * *

(f) * * * Payment must be made via the Board's electronic payment system found on the Board's website. * * *

* * * * *

PART 1011—BOARD ORGANIZATION; DELEGATIONS OF AUTHORITY

6. The authority citation for part 1011 continues to read as follows:

Authority: 5 U.S.C. 553; 31 U.S.C. 9701; 49 U.S.C. 1301, 1321, 11123, 11124, 11144, 14122, and 15722.

7. Amend § 1011.2 by revising paragraph (a)(7) to read as follows:

§ 1011.2 The Board.

(a) * * *

(7) All appeals of initial decisions issued by the Chief Counsel under the authority delegated by § 1011.7(a), and all appeals of initial decisions issued by the Office of Public Assistance, Governmental Affairs, and Compliance under the authority delegated by § 1011.7(b). Appeals must be filed within 10 days after service of the initial decision or publication of the notice, and replies must be filed within 10 days after the due date for appeals or any extension thereof.

* * * * *

8. Amend § 1011.6 by revising paragraphs (c)(3), (d), (g) introductory text, and (h) to read as follows:

§ 1011.6 Delegations of authority by the Chairman.

* * * * *

(c) * * *

(3) Unless otherwise ordered by the Board in individual proceedings, authority to dispose of routine procedural matters in proceedings assigned for handling under modified procedure, other than those assigned to an administrative law judge or a Board Member, is assigned to the Chief Counsel. The Chief Counsel shall also have authority, unless otherwise ordered by the Chairman or by a majority of the Board in individual proceedings, to decide whether complaint proceedings shall be handled under the modified procedure or be assigned for oral hearings. In carrying out these duties, the Chief Counsel shall consult, as necessary, with the Director of any Board office to which an individual proceeding has been assigned.

(d) Except as provided at 49 CFR 1113.3(b)(1), authority to dismiss a complaint on complainant's request, or an application on applicant's request, is delegated to the Chief Counsel.

* * * * *

(g) The Chief Counsel is delegated authority, under the Regulatory Flexibility Act, 5 U.S.C. 601, et seq., to:

* * * * *

(h) Issuance of certificates and decisions authorizing Consolidated Rail Corporation to abandon or discontinue service over lines for which an application under section 308 of the Regional Rail Reorganization Act of 1973, 45 U.S.C. 748, has been filed is delegated to the Chief Counsel.

* * * * *

9. Amend § 1011.7 by revising paragraph (a) to read as follows:

§ 1011.7 Delegations of authority by the Board to specific offices of the Board.

(a) Office of Chief Counsel. (1) The Chief Counsel shall head the Office of Chief Counsel and shall also fulfill the role of the General Counsel of the Board.

(2) The Chief Counsel is delegated the authority to determine (in consultation with involved Offices) whether to waive filing fees set forth at 49 CFR 1002.2(f).

(3) In addition to the authority delegated at § 1011.6(c)(3), (d), (g), and (h), the Chief Counsel shall have authority initially to determine the following:

(i) Whether to designate abandonment proceedings for oral hearings on request.

(ii) Whether offers of financial assistance satisfy the statutory standards of 49 U.S.C. 10904(d) for purposes of negotiations or, in exemption proceedings, for purposes of partial revocation and negotiations.

(iii) Whether:

(A) To impose, modify, or remove environmental or historic preservation conditions; and

(B) In abandonment proceedings, to impose public use conditions under 49 U.S.C. 10905 and the implementing regulations at 49 CFR 1152.28.

(iv) In abandonment proceedings, when a request for interim trail use/rail banking is filed under 49 CFR 1152.29, to determine whether the National Trails System Act, 16 U.S.C. 1247(d), is applicable and, where appropriate, to issue Certificates of Interim Trail Use or Abandonment (in application proceedings) or Notices of Interim Trail Use or Abandonment (in exemption proceedings).

(v) In any abandonment proceeding where interim trail use/rail banking is an issue, to make such findings and issue decisions as may be necessary for the orderly administration of the National Trails System Act, 16 U.S.C. 1247(d).

(vi) Whether to institute requested declaratory order proceedings under 5 U.S.C. 554(e).

(vii) To issue decisions, after 60 days' notice by any person discontinuing a subsidy established under 49 U.S.C. 10904 and at the railroad's request:

(A) In application proceedings, immediately issuing decisions authorizing abandonment or discontinuance; and

(B) In exemption proceedings, immediately vacating the decision that postponed the effective date of the exemption.

(viii) In proceedings under the Feeder Railroad Development Program under 49 U.S.C. 10907 and the implementing regulations at 49 CFR part 1151:

(A) Whether to accept or reject primary applications under 49 CFR 1151.2(b); competing applications under 49 CFR 1151.2(c); and incomplete applications under 49 CFR 1151.2(d).

(B) Whether to grant waivers from specific provisions of 49 CFR part 1151.

(ix) In exemption proceedings subject to environmental or historic preservation reporting requirements, to issue a decision, under 49 CFR 1105.10(g), making a finding of no significant impact where no environmental or historic preservation issues have been raised by any party or identified by the Board's Office of Environmental Analysis.

(x) Whether to issue notices of exemption under 49 U.S.C. 10502:

(A) For acquisition, lease, and operation transactions under 49 U.S.C. 10901 and 10902 and the implementing regulations at 49 CFR part 1150, subparts D and E;

(B) For connecting track constructions under 49 U.S.C. 10901 and the implementing regulations at 49 CFR 1150.36;

(C) For rail transactions under 49 U.S.C. 11323 and the implementing regulations at 49 CFR 1180.2(d); and

(D) For abandonments and discontinuances under 49 U.S.C. 10903 and the implementing regulations at 49 CFR 1152.50.

(xi) When an application or a petition for exemption for abandonment is filed, the Chief Counsel will issue a notice of that filing pursuant to 49 CFR 1152.24(e)(2) and 1152.60, respectively.

(xii) Whether to issue a notice of exemption under 49 U.S.C. 13541 for a transaction under 49 U.S.C. 14303 within a motor passenger carrier corporate family that does not result in adverse changes in service levels, significant operational changes, or a change in the competitive balance with motor passenger carriers outside the corporate family.

(xiii) Whether to issue rail modified certificates of public convenience and necessity under 49 CFR part 1150, subpart C.

(xiv) Whether to waive the regulations at 49 CFR part 1152, subpart C, on appropriate petition.

(xv) To reject applications, petitions for exemption, and verified notices (filed in class exemption proceedings) for noncompliance with the environmental rules at 49 CFR part 1105.

(xvi) To reject applications by BNSF Railway Company to abandon rail lines in North Dakota exceeding the 350-mile cap of section 402 of Public Law 97-102, 95 Stat. 1465 (1981), as amended by The Department of Transportation and Related Agencies Appropriations Act, 1992, Public Law 102-143, section 343 (Oct. 28, 1991).

(xvii) To authorize parties to a proceeding before the Board, upon mutual request, to participate in mediation with a Board-appointed mediator, for a period of up to 30 days and to extend the mediation period at the mutual request of the parties.

(xviii) To authorize a proceeding to be held in abeyance while mediation procedures are pursued, pursuant to the mutual request of the parties to the matter.

(xix) To order arbitration of program-eligible matters under the Board's regulations at 49 CFR part 1108, subpart A, or upon the mutual request of parties to a proceeding before the Board.

(xx) To delegate to Board staff any necessary parties for purposes of accelerated emergency service proceedings at 49 CFR 1146.2.

* * * * *

PART 1012—MEETINGS OF THE BOARD

10. The authority citation for part 1012 continues to read as follows:

Authority: 5 U.S.C. 552b(g), 49 U.S.C. 1301, 1321.

11. Amend § 1012.5 by revising paragraph (c)(5) to read as follows:

§ 1012.5 Transcripts; minutes.

* * * * *

(c) * * *

(5) A copy of the certification issued by the Chief Counsel that, in his or her opinion, the meeting was one that might properly be closed to the public.

12. Amend § 1012.7 by revising paragraph (c) to read as follows:

§ 1012.7 Meetings which may be closed to the public.

* * * * *

(c) With respect to any meeting closed to the public under this section, the Chief Counsel will issue his or her certification that, in his or her opinion, the meeting is one which may properly be closed pursuant to one or more of the provisions of paragraph (d) of this section.

* * * * *

PART 1018—DEBT COLLECTION

13. The authority citation for part 1018 continues to read as follows:

Authority: 31 U.S.C. 3701, 31 U.S.C. 3711 et seq., 49 U.S.C. 1321, 31 CFR parts 900-904.

14. Amend § 1018.25 by revising the second sentence of paragraph (a) to read as follows:

§ 1018.25 Sanctions.

(a) * * * The Board will notify the account holder that the account has been frozen. * * *

* * * * *

15. Amend § 1018.29 by revising the introductory text of paragraph (c) to read as follows:

§ 1018.29 Payments.

* * * * *

(c) To whom payment is made. Payment of a debt to the Board is made via the Board's electronic payment system found on the Board's website, unless payment is:

* * * * *

PART 1019—REGULATIONS GOVERNING CONDUCT OF SURFACE TRANSPORTATION BOARD EMPLOYEES

16. The authority citation for part 1019 continues to read as follows:

Authority: 49 U.S.C. 1321.

17. Amend § 1019.2 by revising paragraph (a) to read as follows:

§ 1019.2 Interpretation and advisory service.

(a) The Board's Chief Counsel shall be the Board's Designated Agency Ethics Official (DAEO).

* * * * *

PART 1021—ADMINISTRATIVE COLLECTION OF ENFORCEMENT CLAIMS

18. The authority citation for part 1021 continues to read as follows:

Authority: 31 U.S.C. 3701, 3711, 3717, 3718.

19. Revise § 1021.3 to read as follows:

§ 1021.3 Enforcement collection designee.

The Director, Office of Public Assistance, Governmental Affairs, and Compliance, Surface Transportation Board, is the Board's designee to take all necessary action administratively to settle by collection, compromise, suspension or termination, enforcement claims within the contemplation of the Federal Claims Collection Act of 1966.

20. Revise § 1021.6 to read as follows:

§ 1021.6 Method of claim payment.

Debtors shall be required to settle claims by:

(a) Payment via the Board's electronic payment system found on the Board's website.

(b) Installment payments via the Board's electronic payment system found on the Board's website after the execution of a promissory note containing an agreement for judgment.

PART 1102—COMMUNICATIONS

21. The authority citation for part 1102 continues to read as follows:

Authority: 49 U.S.C. 1321.

22. Amend part 1102 by removing the text “Chief, Section of Administration, Office of Proceedings”, wherever it appears, and adding, in its place, the text “Chief of Case Administration, Office of Chief Counsel”.

PART 1103—PRACTITIONERS

23. The authority citation for part 1103 continues to read as follows:

Authority: 21 U.S.C. 862; 49 U.S.C. 1303(c), 1321.

24. Amend § 1103.3 by revising the second and third sentences of paragraph (d) to read as follows:

§ 1103.3 Persons not attorneys-at-law—qualifications and requirements for practice before the Board.

* * * * *

(d) * * * Payment must be made via the Board's electronic payment system found on the Board's website. Cash payment or payment via check or money order will not be accepted.

* * * * *

25. Amend § 1103.4 by revising the first sentence of paragraph (d) to read as follows:

§ 1103.4 Initial appearances.

* * * * *

(d) Filing a letter with the Chief of Case Administration, Office of Chief Counsel, Surface Transportation Board stating that practitioner is authorized to represent a party. * * *

PART 1104—FILING WITH THE BOARD—COPIES—VERIFICATION—SERVICE—PLEADINGS, GENERALLY

26.The authority citation for part 1104 continues to read as follows:

Authority: 5.U.S.C. 553 and 559; 18 U.S.C. 1621; and 49 U.S.C. 1321.

27. Amend § 1104.1 by revising paragraph (a) to read as follows:

§ 1104.1 Address, identification, and electronic filing option.

(a) Except as provided in 49 CFR 1115.7, pleadings should be addressed to the “Chief of Case Administration, Office of Chief Counsel, Surface Transportation Board, Washington, DC 20423-0001,” and should designate the docket number and title of the proceeding, if known.

* * * * *

PART 1105—PROCEDURES FOR IMPLEMENTATION OF ENVIRONMENTAL LAWS

28. The authority citation for part 1105 continues to read as follows:

Authority: 16 U.S.C. 1456 and 1536; 42 U.S.C. 4332 and 6362(b); 49 U.S.C. 1301 note (1995) (Savings Provisions), 1321(a), 10502, and 10903-10905; 54 U.S.C. 306108.

29. Revise § 1105.12 to read as follows:

§ 1105.12 Sample newspaper notices for abandonment exemption cases.

In every abandonment exemption case, the applicant shall publish a notice in a newspaper of general circulation in each county in which the line is located and certify to the Board that it has done this by the date its notice of (or petition for) exemption is filed. The notice shall alert the public to the proposed abandonment, to available reuse alternatives, such as trail use and public use, and to how it may participate in a Board proceeding. Sample newspaper notices are provided in appendix A to this part for guidance to the railroads.

30. Add appendix A to part 1105 to read as follows:

Appendix A to Part 1105—Sample Newspaper Notices

Sample Local Newspaper Notice for Out-of-Service Abandonment Exemptions

Notice of Intent To Abandon or To Discontinue Rail Service

Name of railroad) gives notice that on or about (insert date notice of exemption will be filed with the Surface Transportation Board), it intends to file with the Surface Transportation Board, Washington, DC, a notice of exemption under 49 CFR 1152 Subpart F—Exempt Abandonments permitting the (abandonment of or discontinuance of service on) a__mile line of railroad between railroad milepost __, near (station name), which traverses through United States Postal Service ZIP Codes (ZIP Codes) and railroad milepost __, near (station name) which traverses through United States Postal Service ZIP Codes (ZIP Codes) in__County(ies), (State). The proceeding will be docketed as No. AB__(Sub-No.__X).

The Board's Office of Environmental Analysis (OEA) will generally prepare an Environmental Assessment (EA), which will normally be available 25 days after the filing of the notice of exemption. Comments on environmental and energy matters should be filed no later than 15 days after the EA becomes available to the public and will be addressed in a Board decision. Interested persons may obtain a copy of the EA or make inquiries regarding environmental matters by writing to the Office of Environmental Analysis (OEA), Surface Transportation Board, Washington, DC or by calling that office at [INSERT TELEPHONE NUMBER].

Appropriate offers of financial assistance to continue rail service can be filed with the Board. Requests for environmental conditions, public use conditions, or rail banking/trails use also can be filed with the Board. An original and 10 copies of any pleading that raises matters other than environmental issues (such as trails use, public use, and offers of financial assistance) must be filed directly with the Board's Office of Chief Counsel, Washington, DC [See 49 CFR 1104.1(a) and 1104.3(a)], and one copy must be served on applicants' representative [See 49 CFR 1104.12(a)]. Questions regarding offers of financial assistance, public use or trails use may be directed to the Board's Office of Public Assistance, Governmental Affairs, and Compliance at [INSERT TELEPHONE NUMBER]. Copies of any comments or requests for conditions should be served on the applicant's representative: (Name, address and phone number).

Sample Local Newspaper Notice for Petitions for Abandonment Exemptions

Notice of Intent To Abandon or To Discontinue Rail Service

(Name of railroad) gives notice that on or about (insert date petition for abandonment exemption will be filed with the Surface Transportation Board) it intends to file with the Surface Transportation Board, Washington, DC, a petition for exemption under 49 U.S.C. 10502 from the prior approval requirements of 49 U.S.C. 10903, et seq., permitting the (abandonment of or discontinuance of service on) a__mile line of railroad between railroad milepost__, near (station name) which traverses through United States Postal Service ZIP Codes (ZIP Codes), and railroad milepost__, near (station name) which traverses through United States Postal Service ZIP Codes (ZIP Codes) in__County(ies), (State). The proceeding has been docketed as No. AB__(Sub-No.__X).

The Board's Office of Environmental Analysis (OEA) will generally prepare an Environmental Assessment (EA), which will normally be available 60 days after the filing of the petition for abandonment exemption. Comments on environmental and energy matters should be filed no later than 30 days after the EA becomes available to the public and will be addressed in a Board decision. Interested persons may obtain a copy of the EA or make inquiries regarding environmental matters by writing to OEA, Surface Transportation Board, Washington, DC or by calling OEA at [INSERT TELEPHONE NUMBER].

Appropriate offers of financial assistance to continue rail service can be filed with the Board. Requests for environmental conditions, public use conditions, or rail banking/trails use also can be filed with the Board. An original and 10 copies of any pleading that raises matters other than environmental issues (such as trails use, public use, and offers of financial assistance) must be filed directly with the Board's Office of Chief Counsel, Washington, DC [See 49 CFR 1104.1(a) and 1104.3(a)], and one copy must be served on applicants' representative [See 49 CFR 1104.12(a)]. Questions regarding offers of financial assistance, public use or trails use may be directed to the Board's Office of Public Assistance, Governmental Affairs, and Compliance at [INSERT TELEPHONE NUMBER]. Copies of any comments or requests for conditions should be served on the applicant's representative (name and address).

PART 1109—USE OF MEDIATION IN BOARD PROCEEDINGS

31. The authority citation for part 1109 continues to read as follows:

Authority: 49 U.S.C. 1321(a) and 5 U.S.C. 571 et seq.

32. Amend § 1109.3 by revising the second sentence of paragraph (e) to read as follows:

§ 1109.3 Mediation procedures.

* * * * *

(e) * * * Any such request should be submitted to the Chief of Case Administration, Office of Chief Counsel. * * *

* * * * *

PART 1110—PROCEDURES GOVERNING INFORMAL RULEMAKING PROCEEDINGS

33. The authority citation for part 1110 continues to read as follows:

Authority: 49 U.S.C. 1321.

34. Amend part 1110 by:

a. Removing the text “Office of Proceedings”, wherever it appears, and adding, in its place, the text “Office of Chief Counsel”; and

b. Removing the text “Chief, Section of Administration”, wherever it appears, and adding, in its place, the text “Chief of Case Administration”.

PART 1113—ORAL HEARINGS

35. The authority citation for part 1113 continues to read as follows:

Authority: 5 U.S.C. 559; 49 U.S.C. 1321.

36. Amend § 1113.2 by revising the second sentence of paragraph (a) and the fifth sentence of paragraph (d) to read as follows:

§ 1113.2 Subpoenas.

(a) * * * A subpoena may be issued by the Board or by the officer presiding at a hearing and must be signed by the Chief Counsel or a member of the Board.

* * * * *

(d) * * * The original subpoena bearing or accompanied by the required return, affidavit, statement, or acceptance of service, should be returned forthwith to the Chief of Case Administration, Office of Chief Counsel, unless otherwise directed.

* * * * *

37. Amend § 1113.17 by revising the third sentence of paragraph (c) to read as follows:

§ 1113.17 Transcript of record.

* * * * *

(c) * * * If no objections are timely filed, the Office of Chief Counsel shall make the suggested corrections to the transcript. * * *

* * * * *

PART 1114—EVIDENCE; DISCOVERY

38. The authority citation for part 1114 continues to read as follows:

Authority: 5 U.S.C. 559; 49 U.S.C. 1321.

39. Amend § 1114.24 by revising the first sentence of paragraph (h) to read as follows:

§ 1114.24 Depositions; procedures.

* * * * *

(h) * * * The officer shall either submit the deposition and all exhibits by e-filing (provided the filing complies with 49 CFR 1104.1(e)) or securely seal the deposition and all exhibits in an envelope endorsed with sufficient information to identify the proceeding and marked “Deposition of (here insert name of witness)” and personally deliver or promptly send it by registered mail to the Office of Chief Counsel. * * *

* * * * *

40. Amend § 1114.31 by revising paragraph (a)(4) as follows:

§ 1114.31 Failure to respond to discovery.

(a) * * *

(4) Ruling on motion to compel in stand-alone cost and simplified standards rate cases. Within 5 business days after a conference with the parties convened pursuant to paragraph (a)(3) of this section, the Chief Counsel will issue a summary ruling on the motion to compel discovery. If no conference is convened, the Chief Counsel will issue this summary ruling within 10 days after the filing of the reply to the motion to compel. Appeals of a Chief Counsel's ruling will proceed under 49 CFR 1115.9, and the Board will attempt to rule on such appeals within 20 days after the filing of the reply to the appeal.

* * * * *

PART 1115—APPELLATE PROCEDURES

41. The authority citation for part 1115 continues to read as follows:

Authority: 5 U.S.C. 559; 49 U.S.C. 1321; 49 U.S.C. 11708.

42. Revise § 1115.7 to read as follows:

§ 1115.7 Petitions for judicial review; mailing address.

Petitions for judicial review of final agency orders may be served on the Board pursuant to 28 U.S.C. 2112(a) and be addressed to “Chief Counsel, Office of Chief Counsel, Surface Transportation Board, Washington, DC 20423.”

PART 1116—ORAL ARGUMENT BEFORE THE BOARD

43. The authority citation for part 1116 continues to read as follows:

Authority: 49 U.S.C. 1321.

44. Amend § 1116.1 by revising paragraph (a) to read as follows:

§ 1116.1 Requests.

(a) Addressee. Requests for oral argument should be addressed to the Chief of Case Administration, Office of Chief Counsel, Surface Transportation Board, Washington, DC 20423-0001.

* * * * *

PART 1130—INFORMAL COMPLAINTS

45. The authority citation for part 1130 continues to read as follows:

Authority: 49 U.S.C. 1321, 13301(f), 14709.

46. Amend § 1130.2(g)(2) by revising the first and second sentences of paragraph (g)(2) to read as follows:

§ 1130.2 When damages sought.

* * * * *

(g) * * *

(2) * * * Tariff reconciliation petitions (letters of intent) shall be served on all parties named in the petition by the party that files the petition and will be made available by the Board for public inspection in the Office of Public Assistance, Governmental Affairs, and Compliance, Surface Transportation Board, Washington, DC 20423. Any interested person may protest the granting of a petition by filing a letter of objection with the Office of Public Assistance, Governmental Affairs, and Compliance within 30 days of Board receipt of the petition. * * *

* * * * *

PART 1132—PROTESTS REQUESTING SUSPENSION AND INVESTIGATION OF COLLECTIVE RATEMAKING ACTIONS

47. The authority citation for part 1132 continues to read as follows:

Authority: 49 U.S.C. 1321, 13301(f), and 13703.

48. Amend § 1132.1 by revising the first sentence of paragraph (c) to read as follows:

§ 1132.1 Protest against collective ratemaking actions.

* * * * *

(c) * * * Every protest or reply filed under this section should be directed to the attention of the Chief of Case Administration, Office of Chief Counsel, Surface Transportation Board. * * *

* * * * *

PART 1150—CERTIFICATE TO CONSTRUCT, ACQUIRE, OR OPERATE RAILROAD LINES

49. The Authority citation for part 1150 continues to read as follows:

Authority: 49 U.S.C. 1321(a), 10502, 10901, and 10902.

50. Amend part 1150 by:

a. Removing the text “Chief, Section of Administration, Office of Proceedings”, wherever it appears, and adding, in its place, the text “Chief of Case Administration, Office of Chief Counsel”; and

b. Removing the text “Director of the Office of Proceedings”, wherever it appears, and adding, in its place, the text “Chief Counsel”.

PART 1151—FEEDER RAILROAD DEVELOPMENT PROGRAM

51. The authority citation for part 1151 continues to read as follows:

Authority: 49 U.S.C. 10907.

52. Amend § 1151.2 by:

a. Revising the first sentences of paragraphs (b)(1) and (2) and (c)(2); and

b. Revising paragraphs (d)(2) and (j).

The revision reads as follows:

§ 1151.2 Procedures.

* * * * *

(b) * * *

(1) The Board, through the Chief Counsel, will accept a complete application no later than 30 days after the application is filed by publishing a notice in the Federal Register. * * *

(2) The Board, through the Chief Counsel, will reject an incomplete application by serving a decision no later than 30 days after the application is filed. * * *

(c) * * *

(2) The Board, through the Chief Counsel, will issue a decision accepting or rejecting a competing application no later than 15 days after it is filed. * * *

(d) * * *

(2) The Board, through the Chief Counsel, will by decision conditionally accept incomplete initial or competing applications, if the Chief Counsel determines that the discovery sought is necessary for the application and primarily or exclusively within the knowledge of the owning carrier.

* * * * *

(j) Waiver. Prior to filing an initial or competing application, an applicant may file a petition to waive or clarify specific portions of this part. A decision by the Chief Counsel granting or denying a petition for waiver or clarification will be issued within 30 days of the date the petition is filed. Appeals from the Chief Counsel's decision will be decided by the entire Board.

* * * * *

PART 1152—ABANDONMENT AND DISCONTINUANCE OF RAIL LINES AND RAIL TRANSPORTATION UNDER 49 U.S.C. 10903

53. The authority citation for part 1152 continues to read as follows:

Authority: 11 U.S.C. 1170; 16 U.S.C. 1247(d) and 1248; 45 U.S.C. 744; and 49 U.S.C. 1301, 1321(a), 10502, 10903-10905, and 11161.

54. Amend part 1152 by:

a. Removing the text “Director” and “Director of the Office of Proceedings”, wherever it appears, and adding, in its place, the text “Chief Counsel”;

b. Removing the text “Chief, Section of Administration, Office of Proceedings”, wherever it appears, and adding, in its place, the text “Chief of Case Administration, Office of Chief Counsel”; and

c. Removing the text “Director's decision”, wherever it appears, and adding, in its place, the text “Chief Counsel's decision”.

55. Amend § 1152.24 by revising the third sentence of paragraph (a) to read as follows:

§ 1152.24 Filing and service of application.

(a) * * * The applicable filing fee must be paid via the Board's electronic payment system (see 49 CFR part 1002). * * *

* * * * *

PART 1155—SOLID WASTE RAIL TRANSFER FACILITIES

56. The authority citation for part 1155 continues to read as follows:

Authority: 49 U.S.C. 1321(a), 10908, 10909, 10910.

57. Amend part 1155 by:

a. Removing the text “Director of the Office of Proceedings”, wherever it appears, and adding, in its place, the text “Chief Counsel”;

b. Removing the text “Chief, Section of Administration, Office of Proceedings”, wherever it appears, and adding, in its place, the text “Chief of Case Administration, Office of Chief Counsel”; and

c. Removing the text “Director's decision”, wherever it appears, and adding, in its place, the text “Chief Counsel's decision”.

PART 1177—RECORDATION OF DOCUMENTS

58. The authority citation for part 1177 continues to read as follows:

Authority: 49 U.S.C. 1321, 11301.

59. Amend part 1177 by:

a. Removing the text “Chief, Section of Administration, Office of Proceedings”, wherever it appears, and adding, in its place, the text “Chief of Case Administration, Office of Chief Counsel”; and

b. Removing the text “Chief, Section of Administration, Office of Proceedings'”, wherever it appears, and adding, in its place, the text “Chief of Case Administration, Chief Counsel's”.

PART 1180—RAILROAD ACQUISITION, CONTROL, MERGER, CONSOLIDATION PROJECT, TRACKAGE RIGHTS, AND LEASE PROCEDURES

60. The authority citation for part 1180 continues to read as follows:

Authority: 5 U.S.C. 553 and 559; 11 U.S.C. 1172; 49 U.S.C. 1321, 10502, 11323-11325.

§ 1180.4 [Amended]

61. Amend § 1180.4 by:

a. In paragraph (c)(2)(ii), removing the text “Chief, Section of Administration, Office of Proceedings” and adding, in its place, the text “Chief of Case Administration, Office of Chief Counsel”;

b. In paragraph (c)(6)(iii), removing the text removing the text “Office of Proceedings” and adding, in its place, the text “Office of Chief Counsel”; and

c. In paragraph (g)(1) introductory text, removing the text “Section of Administration, Office of Proceedings” and adding, in its place, the text “Section of Case Administration, Office of Chief Counsel”.

PART 1253—RATE-MAKING ORGANIZATION; RECORDS AND REPORTS

62. The authority citation for part 1253 continues to read as follows:

Authority: 49 U.S.C. 1321, 10706, 13703, 11144, and 11145.

63. Amend § 1253.20 by:

a. Revising paragraph (c)(1); and

b. Removing the parenthetical authority citation at the end of the section.

The revision reads as follows:

§ 1253.20 Other records.

* * * * *

(c) * * *

(1) Advise the Board of any change in legal address by notifying the Chief of Case Administration, Office of Chief Counsel; and

* * * * *

[FR Doc. 2026-02179 Filed 2-2-26; 8:45 am]

BILLING CODE 4915-01-P